Title 3—

The President

Memorandum of May 6, 2008

Assignment of Reporting Function Under Subsection 1225(a) of the John Warner National Defense Authorization Act for Fiscal Year 2007

Memorandum for the Secretary of State

By the authority vested in me as President by the Constitution and the laws of the United States of America, including section 301 of title 3, United States Code, I hereby assign to you the function of the President under subsection 1225(a) of the John Warner National Defense Authorization Act for Fiscal Year 2007 (Public Law 109-364).

You are authorized and directed to publish this memorandum in the Federal Register.

THE WHITE HOUSE,

Washington, May 6, 2008.

[FR Doc. 08-1264

Filed 5-13-08; 8:45 am]

Billing code 4710-10-P